DEPARTMENT OF THE INTERIOR

National Park Service

[NPS-WASO-NRNHL-DTS#-37701; PPWOCRADI0, PCU00RP14.R50000]

National Register of Historic Places; Notification of Pending Nominations and Related Actions

AGENCY: National Park Service, Interior.

ACTION: Notice.

SUMMARY: The National Park Service is soliciting electronic comments on the significance of properties nominated before March 23, 2024, for listing or related actions in the National Register of Historic Places.

DATES: Comments should be submitted electronically by April 16, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 23, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

KENTUCKY

Campbell County

York Street Historic District (Boundary Increase), 400-629 York Street, 904-1032 Orchard Street, 11-40 East 9th Street, Newport, BC100010241

Fayette County

Schwert, Drs. George W. & Margaret, House, 3316 Braemer Drive, Lexington, SG100010248

Jefferson County

Wade-Braden District, 4010 Clyde Drive (40216) & 4403 Virginia Avenue (40211), Louisville, SG100010246

Shelby Park Historic District, Roughly bounded by I-65 to the west, East Kentucky Street to the north, and CSX Railroad tracks to the west and south, Louisville, SG100010247

Irish Hill Historic District, Roughly bounded by I-64, Lexington Road, Bishop Street, and Cave Hill Cemetery, Louisville, SG100010253

Jessamine County

St. Luke Catholic Church, 304 South Main Street, Nicholasville, SG100010244,

Glass Mill Road Four Arch Bridge, On Glass Mill Road crossing Jessamine Creek, Wilmore, SG100010245

Perry County

Ritchie Family Home Place, 88 Slabtown Hollow, Viper, SG100010243

TEXAS

Bexar County

Institute of Texan Cultures, 801 E Cesar Chavez, San Antonio, SG100010249

Gregg County

Greggton Commercial Historic District, Bounded by West Marshall Avenue/US Highway 80 to the south, North Supply Street to the west, West Aztec Alley to the north, and Pine Tree Road to the east, Longview, SG100010239

WISCONSIN

Milwaukee County

Lakeview Hospital, 1749 North Prospect Avenue, Milwaukee, SG100010240

Additional documentation has been received for the following resource(s):

ARIZONA

Maricopa County

Fraser Fields Historic District (Additional Documentation), Fraser Dr W to Fraser Dr E; Third Pl to Pepper Pl (67 North Fraser Drive E, Mesa vicinity, AD10000535

Pima County

Blenman-Elm Historic District (Additional Documentation), 1625 North Stewart Avenue, Tucson, AD03000318

El Montevideo Historic District (Additional Documentation), 3700 and 3800 blocks of streets between Broadway & 5th St. (3837 E Calle Cortez), Tucson, AD94001070

KENTUCKY

Campbell County

York Street Historic District (Additional Documentation), York St. from Seventh St. to Tenth St., Newport, AD95000640

Authority: Section 60.13 of 36 CFR part 60.

Sherry A. Frear,
Chief, National Register of Historic Places/National Historic Landmarks Program.

[FR Doc. 2024-06801 Filed 3-29-24; 8:45 am]

BILLING CODE 4312-52-P